DEPARTMENT OF LABOR

Office of Workers' Compensation Programs

Division of Federal Employees' Compensation; Proposed Revision to Existing Approved Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. Currently, the Office of Workers' Compensation Programs is is soliciting comments concerning the proposed collection: Claim for Compensation (CA-7); Authorization for Examination and/or Treatment (CA-16); Duty Status Report (CA-17); Attending Physician's Report (CA-20); Request for the Services of an Attendant (CA-1090); Referral to a Medical Specialist (CA-1305); OWCP Requirements for Audiological Examination (CA-1087); Referral for a Complete Audiologic and Otologic Examination (CA-1331); Outline for Audiologic Examination (CA-1332); Work Capacity Evaluation, Psychiatric/Psychological Conditions (OWCP-5a); Work Capacity Evaluation, Cardiovascular/Pulmonary Conditions (OWCP-5b); and Work Capacity Evaluation, Musculoskeletal Conditions (OWCP-5c). A copy of the proposed information collection request can be obtained by contacting the office listed below in the addresses section of this Notice.

DATES: Written comments must be submitted to the office listed in the addresses section below on or before June 5, 2017.

ADDRESSES: Ms Yoon Ferguson, U.S. Department of Labor, 200 Constitution Ave. NW., Room S-3201, Washington, DC 20210, telephone/fax (202) 354-9647, Email Ferguson.Yoon@dol.gov. Please use only one method of transmission for comments (mail, fax, or Email).

SUPPLEMENTARY INFORMATION:

I. Background

The Office of Workers' Compensation Programs (OWCP) administers the Federal Employees' Compensation Act (FECA), 5 U.S.C. 8101 et seq. The statute provides for the payment of benefits for wage loss and/or for permanent impairment to a scheduled member, arising out of a work related injury or disease. The Act outlines the elements of pay which are to be included in an individual's pay rate, and sets forth various other criteria for determining eligibility to and the amount of benefits, including: Augmentation of basic compensation for individuals with qualifying dependents; a requirement to report any earnings during a period that compensation is claimed; a prohibition against concurrent receipt of FECA benefits and benefits from OPM or certain VA benefits; a mandate that money collected from a liable third party found responsible for the injury for which compensation has been paid is applied to benefits paid or payable. This information collection is currently approved for use through January 31, 2018. This ICR has been classified as a revision, because of a change to the CA-1332, which will include additional questions for the physician to respond to as whether a condition of tinnitus has been diagnosed, has impacted a claimant's daily living and whether such diagnosis is or isn't due to federal employment.

II. Review Focus

The Department of Labor is particularly interested in comments which:

* Evaluate whether the proposed collection of information is necessary for the proper performance of the functions of the agency, including whether the information will have practical utility;

* evaluate the accuracy of the agency's estimate of the burden of the proposed collection of information, including the validity of the methodology and assumptions used;

* enhance the quality, utility and clarity of the information to be collected; and

* minimize the burden of the collection of information on those who are to respond, including through the use of appropriate automated, electronic, mechanical, or other technological collection techniques or other forms of information technology, e.g., permitting electronic submissions of responses.

III. Current Actions

The Department of Labor seeks a revision in order to carry out its statutory responsibility to compensate injured employees under the provisions of the Act.

Type of Review: Revision.

Agency: Office of Workers' Compensation Programs.

Title: FECA medical Reports, Claim for Compensation.

OMB Number: 1240-0046.

Agency Number: CA-7; CA-16; CA-17; CA-20; CA-1090; CA-1305; CA-1087; CA-1331; CA-1332; OWCP-5a; OWCP-5b; and OWCP-5c.

Affected Public: Individuals or households; Business or other for-profit; Federal Government previously approved.

Total Respondents: 282,353.

Form | Time to complete (min) | Number of responses | Hours burden
CA-7 | 13 | 500 | 120
CA-16 | 5 | 29,519 | 2,460
CA-17 | 5 | 182,793 | 15,233
CA-20 | 5 | 56,394 | 4,700
CA-1090 | 10 | 234 | 39
CA-1305 | 20 | 136 | 45
CA-1331/CA-1087 * | 5 | 1,062 | 89
CA-1332 | 30 | 30 | 6
OWCP-5's | 15 | 11,651 | 2,913
Totals |  | 282,353 | 25,605
* Responses and hours associated with Form CA-1087 are included in the estimates for the Form CA-1331. The Form CA-1087 is attached to the Form CA-1331.

Total Annual Responses: 232,353.

Average Time per Response: 5 minutes-30 minutes.

Estimated Total Burden Hours: 25,605.

Frequency: As Needed.

Total Burden Cost (capital/startup): $0.

Total Burden Cost (operating/maintenance): $110,118.

Comments submitted in response to this notice will be summarized and/or included in the request for Office of Management and Budget approval of the information collection request; they will also become a matter of public record.

Dated: March 29, 2017.
Yoon Ferguson,
Agency Clearance Officer, Office of Workers' Compensation Programs, U.S. Department of Labor.

[FR Doc. 2017-06872 Filed 4-5-17; 8:45 am]

BILLING CODE 4510-CH-P